DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, the California Aqueduct Bridge Rehabilitation and Seismic Retrofit on State Route 166 about 2.6 miles east of Old River Road and 5 miles west of Interstate 5 in the County of Kern, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 27, 2022. If the Federal law that authorizes judicial review of a claim provides a time period of less than 150 days for filing such claim, then that shorter time period still applies.

FOR FURTHER INFORMATION CONTACT: For Caltrans: Trais Norris, Branch Chief, Southern San Joaquin Valley Management Branch 3, 2015 E Shields Avenue, Suite 100, Fresno, CA 93726, (209) 601-3521, trais.norris@dot.ca.gov, Mon.-Fri. 9:00 a.m.-5:00 p.m.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: The California Aqueduct Bridge Rehabilitation and Seismic Retrofit proposes to seismically retrofit and rehabilitate California Aqueduct Bridge Number 50-0323 on State Route 166. The project is in Kern County east of Maricopa, 2.6 miles east of Old River Road and 5 miles west of Interstate 5. The actions by the Federal agencies, and the laws under which such actions were taken, are described in the Final Environmental Assessment (FEA) for the project, approved on August 22, 2022, in the FHWA Finding of No Significant Impact (FONSI) issued on August 22, 2022, and in other documents in the FHWA project records. The FEA, FONSI, and other project records are available by contacting Caltrans at the addresses provided above. The Caltrans FEA and FONSI can be viewed and downloaded from the project website at https://dot.ca.gov/caltrans-near-me/district-6/district-6-projects/06-0s050.

This notice applies to all Federal agency decisions as of the issuance date of this notice and all laws under which such actions were taken, including but not limited to:

1. General: National Environmental Policy Act (NEPA) [42 U.S.C. 4321-4335].

2. Land: Section 4(f) of the Department of Transportation Act of 1966 [23 U.S.C. 138 and 49 U.S.C. 303].

3. Wildlife: Federal Endangered Species Act [16 U.S.C. 1531-1543]; Fish and Wildlife Coordination Act [16 U.S.C. 661-666(C); Migratory Bird Treaty Act [16 U.S.C. 760c-760g].

4. Historic and Cultural Resources: Section 106 of the National Historic Preservation Act of 1966, as amended [16 U.S.C. 470(f) et seq.].

5. Wetlands and Water Resources: Clean Water Act [33 U.S.C. 1344].

6. Hazardous Waste: Comprehensive Environmental Response, Compensation and Liability Act [42 U.S.C. 103]; Resource Conservation and Recovery Act of 1976 [42 U.S.C. 6901 et seq.].

Authority: 23 U.S.C. 139(l)(1).

Antonio Johnson,
Director, Planning, Environment, and Right of Way, Federal Highway Administration, California Division.

[FR Doc. 2022-21836 Filed 10-6-22; 8:45 am]

BILLING CODE 4910-RY-P